DEPARTMENT OF THE INTERIOR

National Park Service

[NPS-WASO-NAGPRA-12883; PPWOCRADN0-PCU00RP14.R50000]

Notice of Inventory Completion for Native American Human Remains and Associated Funerary Objects in the Control of the U.S. Department of the Interior, Bureau of Land Management, New Mexico State Office, Santa Fe, NM; Correction

AGENCY: National Park Service, Interior.

ACTION: Notice; correction.

SUMMARY: The U.S. Department of the Interior, Bureau of Land Management, New Mexico State Office has corrected an inventory of human remains and associated funerary objects published in a Notice of Inventory Completion in the Federal Register on November 5, 2001. This notice corrects the minimum number of individuals and number of associated funerary objects. Lineal descendants or representatives of any Indian tribe or Native Hawaiian organization not identified in this notice that wish to request transfer of control of these human remains and associated funerary objects should submit a written request to the Bureau of Land Management, New Mexico State Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Land Management, New Mexico State Office, at the address in this notice by June 12, 2013.

ADDRESSES: Signa Larralde, Deputy Preservation Officer and NAGPRA Coordinator, Bureau of Land Management, New Mexico State Office, 301 Dinosaur Trail, Santa Fe, NM 87508, telephone (505) 954-2179, email slarrald@blm.gov.

SUPPLEMENTARY INFORMATION: Notice is here given in accordance with the Native American Graves Protection and Repatriation Act (NAGPRA), 25 U.S.C. 3003, of the correction of an inventory of human remains and associated funerary objects under the control of the Bureau of Land Management, New Mexico State Office, Santa Fe, NM. The human remains and associated funerary objects were removed from Cibola County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (66 FR 55955, November 5, 2001). A re-inventory and reassessment of collection resulted in a reduction of the minimum number of individuals and discovery of additional associated funerary objects from the site listed in this notice. Transfer of control of the items in this correction notice has not occurred.

Correction

In the Federal Register (66 FR 55955, November 5, 2001), paragraph 4, sentence 1 is corrected by substituting the following sentence:

In 1981, human remains representing five individuals were recovered from site LA 31848 in New Mexico during legally authorized excavations and collections conducted by the Archeological Field School of Simon Fraser University.

In the Federal Register (66 FR 55955, November 5, 2001), paragraph 4, sentence 4 is corrected by substituting the following sentence:

The 21 associated funerary objects are six ceramic sherds, one piece of chipped stone debitage, nine non-human bone/faunal remains, two bone awls, one land snail gastropod shell, one charcoal sample, and one botanical macrofloral sample.

In the Federal Register (66 FR 55955, November 5, 2001), paragraph 7, sentences 1 and 2 are corrected by substituting the following sentences:

Based on the above mentioned information, officials of the New Mexico State Office of the Bureau of Land Management have determined that, pursuant to 43 CFR 10.2(d)(1), the human remains listed above represent the physical remains of five individuals of Native American ancestry. Officials of the New Mexico State Office of the Bureau of Land Management also have determined that, pursuant to 43 CFR 10.2(d)(2), the 21 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Signa Larralde, Deputy Preservation Officer and NAGPRA Coordinator, Bureau of Land Management, New Mexico State Office, 301 Dinosaur Trail, Santa Fe, NM 87508, telephone (505) 954-2179, email slarrald@blm.gov by June 12, 2013. After that date, if no additional requestors have come forward, transfer of control of the human remains and associated funerary objects to the Pueblo of Acoma, New Mexico, may proceed.

The Bureau of Land Management, New Mexico State Office, is responsible for notifying the Hopi Tribe of Arizona; Navajo Nation, Arizona, New Mexico & Utah; Pueblo of Acoma, New Mexico; Pueblo of Jemez, New Mexico; Pueblo of Isleta, New Mexico; Pueblo of San Ildefonso, New Mexico; Pueblo of Zia, New Mexico; and the Zuni Tribe of the Zuni Reservation, New Mexico, that this notice has been published.

Dated: April 19, 2013.
Melanie O'Brien,
Acting Manager, National NAGPRA Program.

[FR Doc. 2013-11228 Filed 5-10-13; 8:45 am]

BILLING CODE 4312-50-P